DEPARTMENT OF COMMERCE

National Institute of Standards and Technology

Fire Test Measurement Needs

AGENCY: National Institute of Standards and Technology, Commerce.

ACTION: Notice of meeting.

SUMMARY: The National Institute of Standards and Technology (NIST) announces its intent to hold a meeting to discuss measurement needs for fire testing laboratories. The meeting will be held at the NIST Gaithersburg campus, on January 20 and 21, 2004, and is open to all interested parties.

DATES: The meeting will begin at 1 p.m. on January 20, 2004, and conclude at noon on January 21, 2004. Those wishing to attend must register by January 15, 2004.

ADDRESSES: The meeting will be held in room B245 of the Polymers Building at the NIST Gaithersburg Campus, 100 Bureau Drive, Gaithersburg, MD.

FOR FURTHER INFORMATION CONTACT: Those wishing to attend should contact Dr. William Grosshandler at the National Institute of Standards and Technology, Mail Stop 8660, 100 Bureau Drive, Gaithersburg, MD, 20899-8660, or by e-mail at william.grosshandler@nist.gov or by telephone at (301) 975-2310.

SUPPLEMENTARY INFORMATION: Commerce involving a multitude of materials, construction products, consumer products and fire protection systems is regulated to ensure the fire safety of the public. Standard test methods have been developed over the past 100 years, many based upon research conducted at NIST, that enable these materials and products to be rated as acceptable (or not) for various applications, depending upon regulations enforced by the authority having jurisdiction. By in large, these test methods are prescriptive in nature. The ratings or classifications obtained from these tests provide a relative measure of the one product versus another, but often there is little relation between a rating or classification and the performance of the product or material in an actual fire situation. The distinction between one rating or classification and the next may not be justified by the variability in the behavior of the material or product and the ability to conduct the test in a precise manner. Fire testing is hampered by the complexity of the physical, thermal and chemical processes involved, the variability of the environment under which the product is expected to perform, the fact that fire performance is often an afterthought in the design process, and the high stakes (i.e., potential for loss of life and property) associated with being wrong in the rating. The concern for public safety is countered by a concern not to unreasonably hamper market forces or to put up trade barriers. The following questions arising from the complexity of the fire testing arena, originally brought up at a NIST workshop on fire test measurements in June, 2001, are in need of further discussion:

• How can we promote best practices for fire testing?

• What are the major sources of measurement uncertainty in standard fire tests?

• How can new fire measurement technologies be transitioned into practice, operators be trained, and round-robin testing be better coordinated?

• Is there a need for a clearing house for information on international harmonization and performance-based codes that impact fire testing?

• Can the interests of North American fire testing laboratories be best preserved through scientific understanding and best practices?

• How can two-way communications between fire testing laboratories and code officials, manufacturers of regulated materials and products, and consumer interest groups be improved?

The meeting will be held at the NIST Gaithersburg campus, on January 20 and 21, 2004, and is open to all interested parties.

Dated: December 22, 2003.
Hratch G. Semerjian,
Acting Deputy Director.

[FR Doc. 04-36 Filed 1-2-04; 8:45 am]

BILLING CODE 3510-13-P